DEPARTMENT OF HEALTH AND HUMAN SERVICES

Food and Drug Administration

[FDA 225-07-8405]

Memorandum of Understanding Between the Food and Drug Administration and the University System of Maryland

AGENCY: Food and Drug Administration, HHS.

ACTION: Notice.

SUMMARY: The Food and Drug Administration (FDA) is providing notice of a memorandum of understanding (MOU) between FDA and the University System of Maryland to establish terms of collaboration to support shared interests that can proceed through a variety of programs including collaborative research, public outreach, cooperative international initiatives, interdisciplinary training, and exchange of scientists and staff through sabbaticals, postdoctoral fellowships, and student internships.

DATES: The agreement became effective July 12, 2007.

FOR FURTHER INFORMATION CONTACT: Mary I. Poos, Office of External Relations (HF-10), Food and Drug Administration, 5600 Fishers Lane, Rockville, MD 20857, 301-827-2825.

SUPPLEMENTARY INFORMATION: In accordance with 21 CFR 20.108(c), which states that all written agreements and MOUs between FDA and others shall be published in the Federal Register, the agency is publishing notice of this MOU.

Dated: August 29, 2007.
Jeffrey Shuren,
Assistant Commissioner for Policy.

BILLING CODE 4160-01-S

[FR Doc. 07-4404 Filed 9-6-07; 8:45 am]

BILLING CODE 4160-01-C